DEPARTMENT OF AGRICULTURE

Submission for OMB Review; Comment Request

The Department of Agriculture will submit the following information collection requirement(s) to OMB for review and clearance under the Paperwork Reduction Act of 1995, Public Law 104-13 on or after the date of publication of this notice. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology Comments regarding these information collections are best assured of having their full effect if received by November 1, 2021. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Agricultural Marketing Service

Title: Accounts Payable Information Request.

OMB Control Number: 0581-New.

Summary of Collection: The Agricultural Marketing Act of 1946 (AMA) (7 U.S.C. 1621-1627) directs and authorizes USDA to develop and improve standards of quality, grades, grading programs, and certification services which facilitate the marketing of agricultural products. To provide programs and services, section 203(h) of the AMA (7 U.S.C. 1622(h)) directs and authorizes the Secretary of Agriculture (Secretary) to inspect, certify, and identify the class, quality, quantity, and condition of agricultural products under such rules and regulations as the Secretary may prescribe, including assessment and collection of fees for the cost of service. The regulations in 7 CFR 54, 56, and 70 provide a voluntary program for grading, certification and standards of meats, prepared meats, meat products, shell eggs, poultry products, and rabbit products. The regulation in 7 CFR 62—Quality Systems Verification Programs provides for voluntary, audit-based, user-fee funded programs that allow applicants to have program documentation and program processes assessed by AMS auditor(s) and other USDA officials.

AMS also provides other types of voluntary services under these regulations, including contract and specification acceptance services and verification of product, processing, further processing, temperature, and quantity. Because this is a voluntary program, respondents request or apply for the specific service they wish, and in doing so, they provide information.

To assist AMS billing administration for providing voluntary services, AMS intends to create a new form to request respondents accounts payable contact information. The new form, LP-109A: Accounts Payable Information Request will increase accuracy and efficiency in billing administration by having the applicable contact responsible for receiving billing statements and submitting payment for services rendered.

Need and Use of the Information: The information collected is used only by authorized representatives of USDA AMS, Livestock and Poultry Program's QAD national and field staff and is used to administer services requested by respondents. The information collection requirements in this request are essential to carry out the intent of AMA, to provide the respondents the type of service they request, and to administer the program.

Description of Respondents: Individuals or Households.

Number of Respondents: 164.

Frequency of Responses: Annually.

Total Burden Hours: 40.

Dated: September 27, 2021.
Levi S. Harrell,
Departmental Information Collection Clearance Officer.

[FR Doc. 2021-21310 Filed 9-29-21; 8:45 am]

BILLING CODE 3410-02-P